FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Reporting Requirements Associated with Emergency Lending Under Section 13(3) (FR A; OMB No. 7100-0373).

DATES: The revisions are effective July 31, 2024.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR A.

Final Approval Under OMB Delegated Authority of the Extension for Three Years, With Revision, of the Following Information Collection

Collection title: Reporting Requirements Associated with Emergency Lending Under Section 13(3).

Collection identifier: FR A.

OMB control number: 7100-0373.

General description of collection: Section 13(3) of the Federal Reserve Act provides that the Board may authorize any Federal Reserve Bank to extend credit to an individual, partnership, or corporation, subject to conditions. The Board's Regulation A establishes policies and procedures with respect to emergency lending under section 13(3). The FR A is the Board's information collection associated with Regulation A. The FR A consists of reporting requirements for entities' compliance with the terms and conditions of the emergency lending facilities.

Frequency: Event-generated.

Respondents: Persons or entities borrowing under an emergency lending program or facility established pursuant to section 13(3).

Total estimated number of respondents: 10.

Total estimated change in burden: (257,250).

Total estimated annual burden hours: 55.

Current actions: On March 7, 2024, the Board published a notice in the Federal Register (89 FR 16570) requesting public comment for 60 days on the extension, with revision, of the FR A. The Board revised the FR A by removing certain reporting and disclosure requirements that were specific to COVID-19 era lending facility programs established in 2020, which have since ceased operation. The comment period for this notice expired on May 6, 2024. The Board did not receive any comments. The revisions will be implemented as proposed.

Board of Governors of the Federal Reserve System, June 25, 2024.
Benjamin W. McDonough,
Deputy Secretary and Ombuds of the Board.

[FR Doc. 2024-14371 Filed 6-28-24; 8:45 am]

BILLING CODE 6210-01-P